FEDERAL COMMUNICATIONS COMMISSION

47 CFR Part 73

[DA 05-707; MB Docket No. 05-117, RM-11182; MB Docket No. 05-118, RM-11183; MB Docket No. 05-119, RM-11184]

Radio Broadcasting Services; Colfax, LA; Knoxville, IL; and Moody, TX

AGENCY: Federal Communications Commission.

ACTION: Proposed rule.

SUMMARY: This document proposes new FM broadcast allotments in Colfax, Louisiana; Knoxville, Illinois; and Moody, Texas. The Audio Division, Media Bureau, requests comment on a petition filed by Charles Crawford, proposing the allotment of Channel 267A at Colfax, Louisiana, as the community's first local aural transmission service. Channel 267A can be allotted to Colfax in compliance with the Commission's minimum distance separation requirements with a site restriction of 13.0 kilometers (8.1 miles) southwest of the central city coordinates for Colfax. The reference coordinates for Channel 267A at Colfax are 31-27-53 North Latitude and 92-49-44 West Longitude. See SUPPLEMENTARY INFORMATION, infra.

DATES: Comments must be filed on or before May 9, 2005, and reply comments on or before May 24, 2005.

ADDRESSES: Federal Communications Commission, 445 Twelfth Street, SW., Washington, DC 20554. In addition to filing comments with the FCC, interested parties should serve the petitioner, his counsel, or consultant, as follows: Charles Crawford, 4553 Bordeaux Ave., Dallas, Texas 75205, and Paul B. Christensen, Esq., Law Offices of Paul B. Christensen, P.A., 3749 Southern Hills Drive, Jacksonville, Florida 32225.

FOR FURTHER INFORMATION CONTACT: R. Barthen Gorman, Media Bureau, (202) 418-2180.

SUPPLEMENTARY INFORMATION: This is a synopsis of the Commission's Notice of Proposed Rule Making, MB Docket Nos. 05-117, 05-118, and 05-119, adopted March 16, 2005 and released March 18, 2005. The full text of this Commission document is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Audio Division requests comments on a petition filed by Paul B. Christensen, Esq., proposing the allotment of Channel 291A at Knoxville, Illinois, as the community's second local aural transmission service. Channel 291A can be allotted to Knoxville in compliance with the Commission's minimum distance separation requirements without any site restriction. The reference coordinates for Channel 291A at Knoxville are 40-54-30 North Latitude and 90-17-05 West Longitude.

The Audio Division requests comments on a petition filed by Charles Crawford proposing the allotment of Channel 256A at Moody, Texas, as the community's first local aural transmission service. Channel 256A can be allotted to Moody in compliance with the Commission's minimum distance separation requirements with a site restriction of 8.7 kilometers (5.4 miles) west of Moody. The reference coordinates for Channel 256A at Moody are 31-17-03 North Latitude and 97-26-35 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR sections 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Illinois, is amended by adding Channel 291A at Knoxville.

3. Section 73.202(b), the Table of FM Allotments under Louisiana, is amended by adding Colfax, Channel 267A.

4. Section 73.202(b), the Table of FM Allotments under Texas, is amended by adding Moody, Channel 256A.

Federal Communications Commission.
John A. Karousos,
Assistant Chief, Audio Division, Media Bureau.

[FR Doc. 05-6567 Filed 4-1-05; 8:45 am]

BILLING CODE 6712-01-P